DEPARTMENT OF COMMERCE

National Oceanic and Atmospheric Administration

50 CFR Part 679

[Docket No. 031126297-3297-01; I.D. 111703D]

Fisheries of the Exclusive Economic Zone Off Alaska; Gulf of Alaska; Interim 2004 Harvest Specifications for Groundfish

AGENCY: National Marine Fisheries Service (NMFS), National Oceanic and Atmospheric Administration (NOAA), Commerce.

ACTION: Interim final rule.

SUMMARY: NMFS issues interim 2004 total allowable catch (TAC) amounts for each category of groundfish, American Fisheries Act (AFA) sideboard amounts, and prohibited species catch (PSC) amounts for the groundfish fisheries of the Gulf of Alaska (GOA). The intended effect is to conserve and manage the groundfish resources in the GOA.

DATES: The interim harvest specifications are effective from 0001 hrs, Alaska local time (A.l.t.), January 1, 2004, until the effective date of the final 2004 harvest specifications for GOA groundfish, which will be published in the Federal Register.

ADDRESSES: Copies of the Environmental Assessment/Initial Regulatory Flexibility Analysis (EA/IFRA) prepared for this action, the final 2002 Stock Assessment and Fishery Evaluation (SAFE) report, dated November 2002, and the final 2003 SAFE report, dated November 2003, is available from the North Pacific Fishery Management Council, 605 West 4th Avenue, Suite 306, Anchorage, AK 99501-2252, telephone (907) 271-2809 or from its homepage at http://www.fakr.noaa.gov/npfmc.

FOR FURTHER INFORMATION CONTACT: Thomas Pearson, (907) 481-1780 or tom.pearson@noaa.gov.

SUPPLEMENTARY INFORMATION:

Background

Federal regulations at 50 CFR part 679 implementing the Fishery Management Plan (FMP) for Groundfish of the GOA govern the groundfish fisheries in the GOA. The North Pacific Fishery Management Council (Council) prepared the FMP, and NMFS approved it under the authority of the Magnuson-Stevens Fishery Conservation and Management Act (Magnuson-Stevens Act). General regulations that also pertain to the U.S. fisheries appear at subpart H of 50 CFR part 600.

The Council met in October 2003 to review scientific information concerning groundfish stocks including the 2002 SAFE report and the EA (see ADDRESSES) and recommended proposed 2004 specifications. The Council recommended and NMFS proposed a total acceptable biological catch (ABC) of 409,690 mt and a TAC of 227,797 mt for the 2004 fishing year. The proposed TAC amounts for each species were based on the best available biological and socioeconomic information.

Under § 679.20(c)(1)(ii), NMFS published in the Federal Register proposed harvest specifications for groundfish in the GOA for the 2004 fishing year published elsewhere in this issue. That document contains a detailed discussion of the proposed 2004 TACs, groundfish reserves, apportionments of TAC, ABC amounts, overfishing levels (OFLs), PSC amounts and apportionments, of the GOA groundfish fishery.

This action provides interim harvest specifications and apportionments thereof for the 2004 fishing year that will become available on January 1, 2004, and remain in effect until superseded by the final 2004 harvest specifications. Background information concerning the 2004 groundfish harvest specification process, on which this interim action is based, is provided in the above mentioned proposed specification document.

Establishment of Interim TACs

Regulations at § 679.20(c)(2)(i) require that one-fourth of each proposed TAC and apportionment thereof (not including the reserves and the first seasonal allowance of pollock and Pacific cod) and one-fourth of the halibut PSC amounts become effective at 0001 hours, A.l.t., January 1, on an interim basis and remain in effect until superseded by the final harvest specifications. As stated in the proposed specifications publication published elsewhere in this issue, no harvest of groundfish is authorized before the effective date of this action implementing the interim specifications.

Regulations at § 679.20(a)(6)(i) and (ii) allocate 100 percent of the pollock TAC to vessels catching pollock for processing by the inshore component, 90 percent of the Pacific cod TAC to vessels catching Pacific cod for processing by the inshore component and 10 percent to vessels catching Pacific cod for processing by the offshore component.

The reserves for the GOA are 20 percent of the TAC amounts for pollock, Pacific cod, flatfish species, and the “other species” category (§ 679.20(b)(2)). The GOA groundfish TAC amounts have been utilized fully since 1987, and NMFS expects this trend to continue in 2004. Therefore, NMFS has proposed reapportioning all the reserves to the TAC. The interim TAC amounts contained in Table 1 reflect the reapportionment of reserves to the TAC.

Interim 2004 GOA Groundfish Harvest Specifications and Apportionments

Table 1 provides interim TAC amounts, the first seasonal allowance of pollock in the combined Western and Central Regulatory Areas, the first seasonal allowance of Pacific cod in the Western and Central Regulatory Areas, interim TAC allocations of Pacific cod to the inshore and offshore components, and interim sablefish TAC apportionments to hook-and-line and trawl gear. These interim TAC amounts and apportionments become effective at 0001 hours, A.l.t., January 1, 2004.

Table 1.—Interim 2004 TAC Amounts of Groundfish for the Combined Western/Central (W/C), Western (W), Central (C), and Eastern (E) Regulatory Areas and in the West Yakutat (WYK), Southeast Outside (SEO), and Gulfwide (GW) Districts of the Gulf of Alaska (GOA) ¹,²
[The first seasonal allowances of pollock in the Combined W/C Regulatory Areas, the first seasonal allowances of Pacific cod. Interim sablefish TAC apportionments to hook-and-line (H/L) and trawl (TRW) gear. Interim TAC amounts have been rounded to nearest metric tons]
Species | Area | Interim TAC | Total
Pollock ³,⁴ | W (610) C (620) C (630) | 2,894 6,535 2,274 |
Subtotal | W/C |  | 11,703
| WYK (640) | 270 |
| SEO (650) | 1,615 |
Total |  |  | 13,588
Pacific cod ⁵ | Inshore W | 7,553 |
| Offshore W | 839 |
| Inshore C | 10,916 |
| Offshore C | 1,213 |
| Inshore E | 587 |
| Offshore E | 65 |
Total |  |  | 21,173
Flatfish, Deep-water ⁶ | W | 45 |
| C | 555 |
| WYK | 332 |
| SEO | 288 |
Total |  |  | 1,220
Rex sole | W | 320 |
| C | 1,385 |
| WYK | 400 |
| SEO | 262 |
Total |  |  | 2,367
Flathead sole | W | 500 |
| C | 1,250 |
| WYK | 659 |
| SEO | 284 |
Total |  |  | 2,693
Flatfish, Shallow-water ⁷ | W | 1,125 |
| C | 3,250 |
| WYK | 290 |
| SEO | 740 |
Total |  |  | 5,405
Arrowtooth flounder | W | 2,000 |
| C | 6,250 |
| WYK | 625 |
| SEO | 625 |
Total |  |  | 9,500
Sablefish ⁸,⁹,¹⁰ | H/L W | N/A (394) |
| TRW W | 98 |
| H/L C | N/A (986) |
| TRW C | 247 |
| TRW WYak | 56 |
| H/L WYak | N/A (388) |
| H/L SEO | N/A (682) |
Total |  |  | 2,851
Pacific ocean perch ¹¹ | W | 675 |
| C | 2,127 |
| WYK | 203 |
| SEO | 410 |
Total |  |  | 3,415
Shortraker/rougheye ¹² | W | 55 |
| C | 210 |
| E | 140 |
Total |  |  | 405
Rockfish, northern ¹³ | W | 197 |
| C | 1,028 |
| E | N/A |
Total |  |  | 1,225
Rockfish, other ¹⁴,¹⁵ | W | 22 |
| C | 138 |
| WYK | 38 |
| SEO | 50 |
Total |  |  | 248
Rockfish, pelagic shelf ¹⁶ | W | 128 |
| C | 870 |
| WYK | 160 |
| SEO | 215 |
Total |  |  | 1,373
Rockfish, demersal shelf SEO ¹⁷ | SEO | 98 |
Thornyhead rockfish | W | 90 |
| C | 210 |
| E | 200 |
Total |  |  | 500
Atka mackerel | GW | 150 |
Other species ¹⁸ | GW | 2,712 |
GOA Total Interim TAC |  |  | 68,921
¹ Reserves have been reapportioned back to each species TAC and are reflected in the interim TAC amounts (see § 679.20(a)(2)).
² See § 679.2 for definitions of regulatory area and statistical area. See Figure 3b to part 679 for a description of regulatory districts.
³ The first seasonal allowance of pollock TAC in the W/C combined area is set at 25% of the annual TAC for the area which is 11,703 mt. Within the W/C area pollock is apportioned between Statistical Areas 610, 620, and 630 based on adjusted estimate of the relative distribution of pollock biomass in the area which is approximately 25% in Area 610 (2,894 mt), 56% in Area 620 (6,535 mt), and 19% in Area 630 (2,274 mt). In the Eastern Regulatory Area, pollock is not divided into less than annual allowances, and one-fourth of the TAC is available on an interim basis.
⁴ The pollock TAC in all regulatory areas will be allocated 100 percent to vessels catching groundfish for processing by the inshore component after subtraction of amounts that are determined by the Regional Administrator, NMFS, to be necessary to support the bycatch needs of the offshore component in directed fisheries for other groundfish species. At this time, these bycatch amounts are unknown and will be determined during the fishing year (see § 679.20(a)(6)(i)).
⁵ The Pacific cod TAC in all regulatory areas is allocated 90 percent to vessels catching groundfish for processing by the inshore component and 10 percent to vessels catching groundfish for processing by the offshore component (see § 679.20(a)(6)(ii)). The first seasonal apportionment of Pacific cod in the GOA is 60% of the annual TAC.
⁶ “Deep-water flatfish” means Dover sole, Greenland turbot and deepsea sole.
⁷ “Shallow-water flatfish” means flatfish not including “deep-water flatfish”, flathead sole, rex sole, or arrowtooth flounder.
⁸ Sablefish TAC amounts for each of the regulatory areas and districts are assigned to hook-and-line and trawl gear. In the Central and Western Regulatory Areas, 80 percent of the TAC is allocated to hook-and-line gear and 20 percent to trawl gear. In the Eastern Regulatory Area, 95 percent of the TAC is assigned to hook-and-line gear. Five percent is allocated to trawl gear and may only be used as bycatch to support directed fisheries for other target species (see § 679.20(a)(4)).
⁹ The sablefish hook-and-line (H/L) gear fishery is managed under the Individual Fishing Quota (IFQ) program and is subject to regulations contained in subpart D of 50 CFR part 679. Annual IFQ amounts are based on the final TAC amount specified for the sablefish H/L gear fishery as contained in the final specifications for groundfish. Under § 679.7(f)(3)(ii), retention of sablefish caught with H/L gear is prohibited unless the harvest is authorized under a valid IFQ permit and IFQ card. In 2004, IFQ permits and IFQ cards will not be valid before the effective date of the 2004 final specifications. Thus, fishing for sablefish with H/L gear will not be authorized under these interim specifications. Nonetheless, interim amounts are shown in parentheses to reflect assignments of one-fourth of the proposed TAC amounts among gear categories and regulatory areas in accordance with § 679.20(c)(2)(i). See § 679.40 for guidance on the annual allocation of IFQ.
¹⁰ Sablefish caught in the GOA with gear other than hook-and-line or trawl gear must be treated as a prohibited species and may not be retained.
¹¹ “Pacific ocean perch” means Sebastes alutus.
¹² “Shortraker/rougheye rockfish” means Sebastes borealis (shortraker) and S. aleutianus (rougheye).
¹³ “Northern rockfish” means Sebastes polyspinis.
¹⁴ “Other rockfish” in the Western and Central Regulatory Areas and in the West Yakutat District means slope rockfish and demersal shelf rockfish. The category “other rockfish” in the Southeast Outside District means slope rockfish.
¹⁵ “Slope rockfish” means Sebastes aurora (aurora), S. melanostomus (blackgill), S. paucispinis (bocaccio), S. goodei (chilipepper), S. crameri (darkblotch), S. elongatus (greenstriped), S. variegateu (harlequin), S. wilsoni (pygmy), S. proriger (redstripe), S. zacentrus (sharpchin), S. jordani (shortbelly), S. brevispinis (silvergrey), S. diploproa (splitnose), S. saxicola (stripetail), S. miniatus (vermilion), S. babcocki (redbanded), and S. reedi (yellowmouth).
¹⁶ “Pelagic shelf rockfish” includes Sebastes ciliatus (dusky), S. entomelas (widow), and S. flavidus (yellowtail).
¹⁷ “Demersal shelf rockfish” means Sebastes pinniger (canary), S. nebulosus (china), S. caurinus (copper), S. maliger (quillback), S. helvomaculatus (rosethorn), S. nigrocinctus (tiger), and S. ruberrimus (yelloweye).
¹⁸ “Other species” includes sculpins, sharks, skates, squid, and octopus. The TAC for “other species” equals 5 percent of the TAC amounts of target species.

Interim 2004 Halibut PSC Mortality Limits

Under § 679.21(d), annual Pacific halibut PSC mortality limits are established for trawl and hook-and-line gear and may be established for pot gear. The Council recommended and NMFS proposed to reestablish the 2003 halibut mortality limits for 2004 because no new information was available. Consistent with 2003, the Council recommended and NMFS proposed exemptions for pot gear, jig gear and the sablefish hook-and-line fishery from halibut PSC limits for 2004. The fishery specific interim PSC allowances for halibut are in effect at 0001 hours, A.l.t., January 1, 2004, and remain in effect until superseded by the final 2004 harvest specifications. The interim halibut PSC limits are: (1) 500 mt to trawl gear, (2) 72.5 mt to hook-and-line gear for fisheries other than demersal shelf rockfish, and (3) 2.5 mt to hook-and-line gear for the demersal shelf rockfish fishery in the Southeast Outside District.

Regulations at § 679.21(d)(3)(iii) authorize apportionments of the trawl halibut PSC limit as bycatch allowances to a deep-water species complex, comprised of rex sole, sablefish, rockfish, deep-water flatfish, and arrowtooth flounder; and a shallow-water species complex, comprised of pollock, Pacific cod, shallow-water flatfish, flathead sole, Atka mackerel, and “other species.” The interim 2004 apportionment for the shallow-water species complex is 409 mt and for the deep-water species complex is 91 mt.

Interim 2004 Non-Exempt AFA Catcher Vessel Groundfish Harvest and PSC Limitations

The AFA regulations implemented groundfish harvesting and processing limitations, also called sideboards, on AFA catcher/processors and catcher vessels in the GOA. These limitations are considered necessary for fishermen and processors who have received an exclusive harvesting and processing privilege under the AFA to protect the interests of fishermen and processors who do not have such privileges. In the GOA, AFA catcher/processors are prohibited from fishing for any species of fish (§ 679.7(k)(1)(ii)) and from processing any groundfish harvested in Statistical Area 630 of the GOA (§ 679.7(k)(1)(iv)). The Council recommended and NMFS proposed that certain AFA catcher vessels in the GOA be exempt from groundfish harvest limitations. Regulations at § 679.64(b)(2)(ii) exempt AFA catcher vessels in the GOA less than 125 ft (38.1 m) length overall (LOA) whose annual Bering Sea and Aleutian Islands management area pollock landings totaled less than 5,100 mt and that made 40 or more GOA groundfish landings from 1995 through 1997.

For non-exempt AFA catcher vessels in the GOA, harvest limitations are based on their traditional harvest levels of TAC in groundfish fisheries covered by the GOA FMP. Regulations at § 679.64(b)(3)(iii) establish the groundfish harvest limits in the GOA based on the retained catch of non-exempt AFA catcher vessels of each sideboard species from 1995 through 1997, divided by the sum of the TACs for that species over the same period. These amounts are listed in Table 2. All harvests of sideboard species made by non-exempt AFA catcher vessels, whether as targeted catch or bycatch, will be deducted from the sideboard limits in Table 2.

Table 2.—Interim 2004 GOA Non-Exempt American Fisheries Act Catcher Vessel (CV) Groundfish Harvest Sideboard Limitations
Species | Apportionments and allocations by area/season/ processor/gear | Ratio of 1995 1997 non-exempt AFA CV catch to 1995-1997 TAC | 2004 interim TAC (mt) | 2004 Non-Exempt AFA catcher vessel sideboard (mt)
Pollock | Shumagin (610) | 0.6112 | 2,894 | 1,769
| Chirikof (620) | 0.1427 | 933 | 6,535
| Kodiak (630) | 0.2438 | 554 | 2,274
| WYK (640) | 0.3499 | 270 | 94
| SEO (650) | 0.3499 | 1,615 | 565
Pacific cod | W inshore | 0.1423 | 7,553 | 1,075
| W offshore | 0.1026 | 839 | 86
| C inshore | 0.0722 | 10,916 | 788
| C offshore | 0.0721 | 1,213 | 87
| E inshore | 0.0079 | 587 | 5
| E offshore | 0.0078 | 65 | 1
Flatfish deep-water | W | 0.0000 | 45 | 0
| C | 0.0670 | 555 | 37
| E | 0.0171 | 620 | 11
Rex sole | W | 0.0010 | 320 | 0
| C | 0.0402 | 1,385 | 56
| E | 0.0153 | 662 | 10
Flathead sole | W | 0.0036 | 500 | 2
| C | 0.0261 | 1,250 | 33
| E | 0.0048 | 943 | 5
Flatfish shallow-water | W | 0.0156 | 1,125 | 18
| C | 0.0598 | 3,250 | 194
| E | 0.0126 | 1,030 | 13
Arrowtooth flounder | W | 0.0021 | 2,000 | 4
| C | 0.0309 | 6,250 | 193
| E | 0.0020 | 1,250 | 3
Sablefish | W trawl gear | 0.0000 | 98 | 0
| C trawl gear | 0.0720 | 247 | 18
| E trawl gear | 0.0488 | 56 | 3
Pacific ocean perch | W | 0.0623 | 675 | 42
| C | 0.0866 | 2,127 | 184
| E | 0.0466 | 613 | 29
Shortraker/Rougheye | W | 0.0000 | 55 | 0
| C | 0.0237 | 210 | 5
| E | 0.0124 | 140 | 2
Other rockfish | W | 0.0034 | 23 | 0
| C | 0.2065 | 138 | 28
| E | 0.0000 | 88 | 0
Northern rockfish | W | 0.0003 | 197 | 0
| C | 0.0336 | 1,028 | 35
Pelagic shelf rockfish | W | 0.0001 | 128 | 0
| C | 0.0000 | 870 | 0
| E | 0.0067 | 375 | 3
Thornyhead rockfish | W | 0.0308 | 90 | 3
| C | 0.0308 | 210 | 6
| E | 0.0308 | 200 | 6
Demersal shelf rockfish | SEO | 0.0020 | 98 | 0
Atka mackerel | Gulfwide | 0.0309 | 150 | 5
Other species | Gulfwide | 0.0090 | 2,712 | 24

In accordance with regulations at § 679.64(b)(4), PSC bycatch limits for non-exempt AFA catcher vessels in the GOA are based on the ratio of aggregate retained groundfish catch by non-exempt AFA catcher vessels in each PSC target category from 1995 through 1997, relative to the retained catch of all vessels in that fishery from 1995 through 1997. These amounts are shown in Table 3.

Table 3.—Interim 2004 Non-Exempt American Fisheries Act Catcher Vessel Prohibited Species Catch (PSC) Limits for the GOA
PSC species | Target fishery | Ratio of 1995-1997 non-exempt AFA CV retained catch to total retained catch | 2004 interim PSC limit (mt) | 2004 non-exempt AFA catcher vessel PSC limit (mt)
Halibut (mortality in mt) | shallow water targets deep water targets | 0.340 0.070 | 409 91 | 139 6

Directed Fishing Closures

In accordance with § 679.20(d)(1)(i), if the Regional Administrator determines that any allocation or apportionment of a target species or “other species” category apportioned to a fishery or, with respect to pollock and Pacific cod, to an inshore or offshore component allocation, will be reached, the Regional Administrator may establish a directed fishing allowance for that species or species group. If the Regional Administrator establishes a directed fishing allowance, and that allowance is or will be reached before the end of the fishing year, NMFS will prohibit directed fishing for that species or species group in the specified GOA regulatory area or district (§ 679.20(d)(1)(iii)).

The Regional Administrator has determined that the TAC amounts in Table 4 are necessary as incidental catch to support other anticipated groundfish fisheries for the 2004 fishing year.

Table 4.—Incidental Catch Needed to Support Other Directed Fisheries in the GOA in 2004.
[Amounts are in metric tons]
Target | Regulatory area | Gear/component | Amount
Atka Mackerel | entire GOA | all | 150
Thornyhead Rockfish | entire GOA | all | 500
Shortraker Rougheye Rockfish | entire GOA | all | 405
Other Rockfish | entire GOA | all | 248
Sablefish | entire GOA | trawl | 401
Pollock | entire GOA | all/offshore | 0

In accordance with § 679.20(d)(1)(i), the Regional Administrator establishes the directed fishing allowances for the above species or species groups as zero. Therefore, in accordance with § 679.20(d)(1)(iii), NMFS immediately is prohibiting directed fishing for those species, areas, gear types, and components listed in Table 4. These closures will remain in effect until superseded by the final 2004 harvest specifications.

Regulations at § 679.64(b)(5) provide for management of AFA catcher vessel groundfish harvest limits and PSC bycatch limits using directed fishing closures and PSC closures according to procedures set out at §§ 679.20(d)(1)(iv), 679.21(d)(8) and 679.21(e)(3)(v). The Regional Administrator has determined that in addition to the closures listed above, many of the non-exempt AFA catcher vessel sideboard amounts listed in Table 2 are necessary as incidental catch to support other anticipated groundfish fisheries for the 2004 fishing year. In accordance with § 679.20(d)(1)(iv) the Regional Administrator establishes these amounts as directed fishing allowances. The Regional Administrator finds that many of these directed fishing allowances will be reached before the end of the year. Therefore, in accordance with § 679.20(d)(1)(iii), NMFS is prohibiting directed fishing by non-exempt AFA catcher vessels in the GOA for the species and specified areas in Table 5. These closures will remain in effect until superseded by the final 2004 harvest specifications.

Table 5.—2004 Non-Exempt American Fisheries Act Catcher Vessel Sideboard Directed Fishing Closures in the GOA
Species | Regulatory area district | Gear
Pacific cod | Eastern GOA | all
Deep-water flatfish | Western and Eastern GOA | all
Rex sole | Western and Eastern GOA | all
Flathead sole | Eastern GOA | all
Shallow-water flatfish | Eastern GOA | all
Arrowtooth flounder | Eastern GOA | all
Pacific ocean perch | Western GOA | all
Northern rockfish | Western GOA | all
Pelagic shelf rockfish | entire GOA | all
Demersal shelf rockfish | SEO District | all
Other species | entire GOA | all

Classification

This action is authorized under 50 CFR 679.20 and is exempt from review under Executive Order 12866.

Because this action is a final action by NMFS, analyses required under the Magnuson-Stevens Act must be completed and considered by the agency before promulgation of the interim harvest specifications.

Regulations at 50 CFR 679.20(c)(2) require NMFS to specify harvest specifications to be effective January 1 and to remain in effect until superceded by the final specifications. Without interim specifications in effect on January 1, the groundfish fisheries would not be able to open, resulting in disruption within the fishing industry. NMFS cannot publish interim specifications until proposed specifications are completed, because the interim specifications are derived from the proposed specifications, as required by regulations at 50 CFR 679.20(c)(2).

The proposed specifications are based on the preliminary recommendations of the Plan Team, which were reviewed by the Scientific and Statistical Committee, Advisory Panel, and Council in October, 2003 in projecting 2003 biomass amounts, as identified in the 2002 SAFE Report, for the proposed 2004 ABC, overfishing levels, and TAC amounts. The Plan Team recommendations incorporate the most current data available from a number of sources, including current-year industry catch levels, and current-year trawl and hydro-acoustic surveys. These data are not available in time for Council review prior to the October Council meeting, as the surveys are conducted during the summer months, and industry catch levels reflect current year activity. These up-dated data sources represent the best available scientific information. These data provide the basis for the proposed and interim specifications.

The proposed specifications, as required by regulations at 50 CFR 679.20(c)(1)(i)(A), must be published as soon as practicable after consultation with the Council, which occurs at the Council's October meeting. This requirement, along with the requirement of national standard 2 of the Magnuson-Stevens Act to use the best scientific information available, prevents NMFS from publishing the proposed specifications early enough to provide sufficient time to have a public comment period for the interim specifications, which are derived from the proposed specifications, and to have the interim specifications effective on January 1.

As stated above, disruption of the fishing industry, and consequent impacts to fishing communities and the public, would occur if the interim specifications were not effective January 1. Additionally, the public is provided an opportunity to comment on the proposed specifications, from which the interim specifications are derived. For these reasons, good cause exists under 5 U.S.C. 553(b)(B) to waive prior notice and opportunity for public comment on this action as such procedures would be impracticable and contrary to the public interest.

Likewise, the AA finds good cause to waive the 30-day delay in effectiveness date of the interim specifications. Regulations at 50 CFR 679.20(c)(2) requires NMFS to establish interim harvest specifications to be effective on January 1 and to remain in effect until superseded by the publication of final harvest specifications by the Office of the Federal Register. NMFS interprets regulations at § 679.20(c)(2) as requiring the filing of interim specifications with the Office of the Federal Register before any harvest of groundfish is authorized. The interim specifications are based on the proposed 2004 specifications.

The interim specifications rely on data used to propose the 2004 specifications, and those data are not available until the after summer surveys are conducted (see above). Without interim specifications in effect on January 1, the groundfish fisheries would not be able to open on that date, resulting in disruption of the fishing industry. These reasons constitute good cause pursuant to 5 U.S.C. 553(d)(3) to waive the 30-day delay in effectiveness date.

Because these interim specifications are not required to be issued with prior notice and opportunity for public comment pursuant to 5 U.S.C. 553, or any other law, the analytical requirements of the Regulatory Flexibility Act do not apply. Consequently, no regulatory flexibility analysis has been prepared for this action.

Authority: 16 U.S.C. 773 et seq., 1801 et seq., and 3631 et seq..

Dated: December 1, 2003.
William T. Hogarth,
Assistant Administrator for Fisheries, National Marine Fisheries Service.

[FR Doc. 03-30282 Filed 12-4-03; 8:45 am]

BILLING CODE 3510-22-P